DEPARTMENT OF HOMELAND SECURITY

U.S. Customs and Border Protection

[Docket No. USCBP-2023-0008]

Request for Applicants for Appointment to the Commercial Customs Operations Advisory Committee (COAC)

AGENCY: U.S. Customs and Border Protection, Department of Homeland Security (DHS).

ACTION: Committee Management; request for applicants for appointment to the Commercial Customs Operations Advisory Committee (COAC).

SUMMARY: U.S. Customs and Border Protection (CBP) is requesting that individuals who are interested in serving on the Commercial Customs Operations Advisory Committee (COAC) apply for membership. The COAC provides advice and makes recommendations to the Secretaries of the Department of the Treasury (Treasury) and the Department of Homeland Security (DHS) on all matters involving the commercial operations of CBP and related functions.

DATES: Applications for membership should be submitted to CBP as indicated in the ADDRESSES section on or before June 5, 2023.

ADDRESSES: If you wish to apply for membership, your application should be submitted by one of the following means:

• Email: latoria.p.martin@cbp.dhs.gov.

• Mail: Ms. Latoria Martin, Office of Trade Relations, U.S. Customs and Border Protection, 1300 Pennsylvania Avenue NW, Room 3.5A, Washington, DC 20229.

FOR FURTHER INFORMATION CONTACT: Ms. Latoria Martin, U.S. Customs and Border Protection, 1300 Pennsylvania Avenue NW, Room 3.5A, Washington, DC 20229. Email: latoria.p.martin@cbp.dhs.gov; telephone 202-344-1440.

SUPPLEMENTARY INFORMATION: Section 109 of the Trade Facilitation and Trade Enforcement Act of 2015 (Pub. L. 114-125, 130 Stat. 122, February 24, 2016) established the Commercial Customs Operations Advisory Committee (COAC). The COAC is an advisory committee established in accordance with the provisions of the Federal Advisory Committee Act, 5 U.S.C. chapter 10. The COAC advises the Secretaries of the Department of the Treasury (Treasury) and Department of Homeland Security (DHS) on the commercial operations of U.S. Customs and Border Protection (CBP) and related Treasury and DHS functions. In accordance with section 109 of the Trade Facilitation and Trade Enforcement Act, the COAC shall:

(1) advise the Secretaries of the Treasury and DHS on all matters involving the commercial operations of CBP, including advising with respect to significant changes that are proposed with respect to regulations, policies, or practices of CBP;

(2) provide recommendations to the Secretaries of the Treasury and DHS on improvements to the commercial operations of CBP;

(3) collaborate in developing the agenda for COAC meetings; and

(4) perform such other functions relating to the commercial operations of CBP as prescribed by law or as the Secretaries of the Treasury and DHS jointly direct.

Balanced Membership Plans

The COAC consists of 20 members who are selected from representatives of the trade or transportation communities served by CBP, or others who are directly affected by CBP commercial operations and related functions. The members shall represent the interests of individuals and firms affected by the commercial operations of CBP and shall be appointed without regard to political affiliation. The members will be appointed by the Secretaries of the Treasury and DHS from candidates recommended by the Commissioner of CBP. In addition, members will represent major regions of the country.

COAC Meetings

The COAC meets once each quarter, although additional meetings may be scheduled. The COAC meetings may be held in Washington, DC, or near a CBP port of entry. The members do not receive travel reimbursement or per diem.

COAC Membership

Membership on the COAC is specific to the appointee and a member may not send an alternate to represent him or her at a COAC meeting. The length of the member's term is determined by the Secretaries, not to exceed three years. Regular attendance is essential; a member who is absent for two public meetings within a calendar year, or does not participate in the committee's work, may be removed from the COAC.

Members who are currently serving on the COAC are eligible to re-apply for membership if they are not in their second consecutive term and if they have met the attendance requirements. A new application letter is required and may incorporate copies of previously filed application materials noted herein. Members will not be considered Special Government Employees and will not be paid compensation by the Federal Government for their representative services with respect to the COAC.

Application for COAC Appointment: Any interested person wishing to serve on the COAC must provide the following:

• Statement of interest and reasons for application;

• Complete professional resume;

• Home address and telephone number;

• Work address, telephone number, and email address;

• Statement of the industry you represent; and

• Statement agreeing to submit to pre-appointment mandatory background and tax checks.

A national security clearance is not required for the position. In order for Treasury and DHS to fully leverage broad-ranging experience and education, the COAC must be diverse with regard to professional and technical expertise. Treasury and DHS are committed to pursuing opportunities, consistent with applicable law, to compose a committee that reflects the diversity of the nation's people.

Signing Authority

The Acting Commissioner Troy A. Miller, having reviewed and approved this document, has delegated the authority to electronically sign the document to the Director (or Acting Director, if applicable) of the Regulations and Disclosure Law Division of CBP, for purposes of publication in the Federal Register.

Dated: May 1, 2023.
Robert F. Altneu,
Director, Regulations and Disclosure Law Division, Regulations and Rulings, Office of Trade, U.S. Customs and Border Protection.

[FR Doc. 2023-09552 Filed 5-4-23; 8:45 am]

BILLING CODE 9111-14-P